DEPARTMENT OF TRANSPORTATION

Federal Aviation Administration

Transition to Docket Management System

AGENCY: Federal Aviation Administration, DOT.

ACTION: Notice of policy change.

SUMMARY: This notice announces a transition that will make docket files for future airworthiness directives (AD) available on the Internet. The docket files will be available in the DOT's Docket Management System (DMS).

FOR FURTHER INFORMATION CONTACT: Linda S. Walker, Program Manager, Federal Aviation Administration, Aircraft Certification Service, Aircraft Engineering Division, Delegations and Airworthiness Programs Branch, AIR-140, Room, 813, 800 Independence Avenue, SW., Washington, DC 20591; telephone (202) 267-9592; fax (202) 267-5340; e-mail: linda.s.walker@faa.gov.

Background

In mid-May, the FAA will make change that will make docket files for future AD actions easier for you to access. With the exception of some AD actions already in process, we will be placing the docket files for many of our AD actions into the DMS on the Internet at http://dms.dot.gov/. You can continue to view AD docket files for previously issued ADs in the office of the issuing Directorate or in the Office of the Assistant Chief Counsel for the issuing Directorate.

The DMS is an electronic, image-based database in which DOT stores the docketed material for DOT rulemaking activities for you to view. This online database contains more than 1.2 million pages of regulatory and adjudicatory information for easy research and retrieval. Anyone with Internet access can submit comments on rulemaking activities electronically to the DMS and view comments already submitted.

The AD docket files contain justification documents that support an AD action. Once we begin placing AD dockets on the DMS, all material routinely part of the AD docket file will be available electronically with the exception of any materials that for any reason cannot be scanned. Materials that cannot be scanned will be maintained in the office of the issuing Directorate or in the Office of the Assistant Chief Counsel for the issuing Directorate.

This policy will apply to future docket files. You can continue to view the docket files of, and submit comments on, previous AD actions that are not maintained in the DMS, at the addresses indicated in the AD actions. We will not transfer existing paper dockets to the DMS. If you do not have Internet access, each AD action published in the Federal Register will contain the physical address of the DMS for viewing any AD docket information, and for submitting any comments on that action.

We will continue to publish AD actions in the Federal Register.

Issued in Washington, DC, on May 5, 2004.
Susan J.M. Cabler,
Assistant Manager, Aircraft Engineering Division, Aircraft Certification Service.

[FR Doc. 04-10817 Filed 5-12-04; 8:45 am]

BILLING CODE 4910-13-M